DEPARTMENT OF THE INTERIOR

Bureau of Land Management

Fish and Wildlife Service

[FWS-R8-ES-2015-N254; FXES11120000-156-FF08E00000]

Supplemental Draft Environmental Impact Statement for the Proposed South Coast Resource Management Plan Amendment; for the Proposed Upper Santa Ana River Habitat Conservation Plan and Land Exchange

AGENCY: Fish and Wildlife Service, Interior; Bureau of Land Management, Interior.

ACTION: Notice of intent and notice of public meeting; request for comments.

SUMMARY: We, the U.S. Fish and Wildlife Service (Service) and Bureau of Land Management (BLM), intend to prepare a Supplemental Draft Environmental Impact Statement (SDEIS) under the National Environmental Policy Act (NEPA) of 1969, as amended, for the proposed Upper Santa Ana River Wash Habitat Conservation Plan (HCP), and a related land exchange. The SDEIS will be a joint Environmental Impact Statement/Environmental Impact Report (EIS/EIR), for which the Service, the BLM, and the San Bernardino Valley Water Conservation District (District) intend to gather information necessary for preparation. The proposed HCP has been drafted to meet the requirements of the Federal Endangered Species Act (ESA) of 1973, as amended, and the State of California's Endangered Species Act and Natural Communities Conservation Planning Act. The BLM, in compliance with the Federal Land Policy and Management Act, as amended, will consider this NEPA process and the resulting HCP documents in its analysis toward possible amendment of the BLM South Coast Resource Management Plan (SCRMP) to support the land exchange.

DATES: Please send written comments on or before May 4, 2015.

We will hold two public scoping meetings on March 18, 2015, from 2 to 4 p.m. and 6:30 to 8:30 p.m. at the San Bernardino Valley Water Conservation District office located at 1630 West Redlands Avenue, Redlands, CA 92373. In addition to this notice, we will announce the public scoping meetings in local news media and on the Internet at the BLM Web site (http://www.ca.blm.gov/palmsprings) and the Service Web site (http://www.fws.gov/carlsbad) at least 15 days prior to the event. For more information, see Public Comments and Reasonable Accommodation in the SUPPLEMENTARY INFORMATION.

ADDRESSES: Comments or requests for more information specific to the proposed land exchange and amendment to the SCRMP should be sent via any one of the following methods:

U.S. Mail: Brandon Anderson, Santa Ana River Wash Project, Bureau of Land Management, 1201 Bird Center Drive, Palm Springs, CA 92262.

Email: bganderson@blm.gov. Subject line should include “Scoping Comments for the Upper Santa Ana River Wash Project.”

Comments or requests for more information specific to the issuance of an incidental take permit and the HCP should be sent to the following:

U.S. Mail: Kennon Corey, Santa Ana River Wash Project, Palm Springs Fish and Wildlife Service Office, 777 E. Tahquitz Canyon Way, Suite 208, Palm Springs, CA 92262.

FOR FURTHER INFORMATION CONTACT: For further information and/or to have your name added to our mailing list, contact Brandon Anderson, Santa Ana River Wash Project, Bureau of Land Management, Palm Springs South Coast Field Office, by telephone at 760-833-7117, or by email at bganderson@blm.gov, or Kennon Corey, Santa Ana River Wash Project, by mail at Palm Springs Fish and Wildlife Office, 777 East Tahquitz Canyon Way, Suite 208, Palm Springs, CA 92262 or by email at fw8cfwocomments@fws.gov.

SUPPLEMENTARY INFORMATION:

Background

In 1993, representatives of numerous agencies, including water, mining, flood control, wildlife, and municipal interests, formed a Wash Committee to address mining issues that were local to the upper Santa Ana River wash area. The role of the Committee was subsequently expanded, and it began meeting in 1997 to determine how this area might accommodate the ongoing and contemplated future activities of the participating entities. To achieve this goal, the Wash Committee worked with the California Department of Fish and Wildlife (CDFW) and the Service to develop a Habitat Conservation Plan (HCP), which would establish a structure to integrate ongoing operations and planned projects with biological resource conservation within the Plan area. The District prepared a draft HCP on behalf of the Wash Committee in November 2008 and subsequently revised it in January 2010. The District and the Wash Committee subsequently worked with the Service and CDFW to revise the HCP, which now provides additional conservation. The District and the Wash Committee have also been working with the BLM to facilitate a land exchange to accommodate the HCP conservation strategy.

The Supplemental Draft EIR/EIS (SDEIS) will provide an updated analysis to the 2009 Draft EIS issued by the BLM in April 2009 for the Proposed Santa Ana River Wash Land Use Plan Amendment and Land Exchange and the Final EIR issued by the District for the HCP. The SDEIS will consider the environmental effects associated with the proposed land exchange, the proposed amendment to the SCRMP, and the proposed HCP, as well as those of several alternatives.

The SDEIS will evaluate the direct, indirect, and cumulative impacts of several alternatives related to the proposed land exchange and to the proposed issuance of Endangered Species Act permits to permit applicants in San Bernardino County, California. The permit applicants intend to apply for a 30-year permit from the Service that would authorize the incidental take of species resulting from implementation or approval of covered activities, including aggregate mining, the construction of ground water recharge basins, road improvements, trail construction, and other kinds of projects.

Pursuant to 43 CFR 1610.2(c), notice is hereby given that the BLM is considering a proposal to amend the 1994 SCRMP and exchange lands with the District. Additionally, the Service is considering the issuance of an incidental take permit consistent with the Upper Santa Ana River Wash HCP. The SDEIS will describe and analyze alternatives to the proposed land use plan amendment, and HCP. The lands proposed for exchange in the 2009 Draft EIS have been revised to incorporate the activities and conservation strategy to be carried out consistent with the terms of the HCP and the refinement of exchange parcels to allow water conservation, mining, flood control, and other public actions within the study area while protecting and consolidating the natural resources, especially the threatened and endangered species in the area. This analysis will also review reasonably foreseeable activities currently undergoing initial feasibility review for an additional flood control activity, potentially resulting in a new Area of Critical Environmental Concern designation. Covered activities will also be reviewed for potential impacts to land designated as an Area of Critical Environmental Concern and Research Natural Area for protection of two plants federally listed as endangered, Eriastrum densifolium subsp. sanctorum (Santa Ana River woolly-star) and Dodecahema leptoceras (slender-horned spineflower); as well as the federally endangered San Bernardino kangaroo rat (Dipodomys merriami parvus); the federally threatened coastal California gnatcatcher (Polioptila californica californica); and the cactus wren (Campylorhynchus brunneicapillus). In order to respond to comments received on the 2009 Draft EIS, extensive biological fieldwork was conducted to identify the areas in which the species are found in both a quantitative and qualitative manner. The Supplemental EIS will address the Federal actions in approving and implementing the project, including the proposed land exchange between the BLM and the District, the proposed amendment to the SCRMP by the BLM to accommodate the land exchange and the overall Wash Plan, and the proposed issuance of an incidental take permit consistent with the HCP. The BLM and the Service will be co-lead Agencies for the Supplemental EIS. The District will be the Lead Agency for the Supplemental EIR, under the California Environmental Quality Act.

The Service and BLM are publishing this notice to announce the initiation of a public scoping period, during which we invite other agencies (local, State, and Federal), Tribes, nongovernmental organizations, and the public to submit written comments providing suggestions and information on the scope of issues and alternatives to be addressed in the SDEIS. Concurrently with this notice, the District has publicly released a California Environmental Quality Act Notice of Preparation for its EIR via State and local media.

Project Area

The project area lies within San Bernardino County, California, primarily in the cities of Highland and Redlands, as well as within the unincorporated County area. The project area encompasses approximately 4,467 acres within the area bounded by Greenspot Road to the north and east, Alabama Street to the west, and the Santa Ana River Wash to the south.

Potential Applicants

The Upper Santa Ana River Wash Plan is being prepared through a collaboration of Federal, State, and local agencies as the basis for the BLM to amend the SCRMP and exchange lands for the HCP, for the HCP approval and potential issuance of incidental take permits for the implementation of the Upper Santa Ana River Wash Plan by the District, City of Highland, City of Redlands, San Bernardino County, San Bernardino Valley Municipal Water District, and others. The incidental take permits would be issued pursuant to section 10(a)(1)(B) of the ESA and section 2081 (CESA) of the California Fish and Game Code. Only the applicants listed in the applications and HCP could receive incidental take permits for the covered activities and the covered species.

Covered Activities

The HCP is intended to cover two types of activities in the Upper Santa Ana River Wash Plan project area:

(1) Activities related to the operations and maintenance of existing facilities or land uses already in operation in the Wash, covering an area totaling 166.9 acres; and

(2) Expansion or enhancement of facilities planned for the Wash area, totaling 634.1 acres.

It should be noted that activities related to all utilities belonging to Southern California Edison within the project footprint, and the EBX Foothill Pipeline, also located within the project footprint, are excluded from the covered activities described in the HCP.

All listed project activities can be subdivided into the following categories:

(1) Flood Control—activities related to the operation and maintenance of existing flood control facilities;

(2) Mining—activities that support continued aggregate mining activities in the Wash;

(3) Trails—the development of trails and open space opportunities; activities that support the restoration and maintenance of habitat values in the Wash;

(4) Transportation—activities related to the construction and maintenance of planned transportation facilities;

(5) Water Conservation—activities related to water management for conservation purposes, as well as habitat restoration activities, and the continued operations and maintenance of certain miscellaneous activities present on the site such as citrus production; and

(6) Wells—activities related to the recharge or extraction of potable water from groundwater basins as part of the regional water supply.

Covered Species

Covered Species are those species addressed in the proposed Upper Santa Ana River Wash Plan for which conservation actions will be implemented and for which the applicants will seek incidental take authorizations for a period of up to 30 years. Proposed Covered Species are expected to include threatened and endangered species listed under the ESA, species listed under CESA, and unlisted species of Federal and State conservation concern.

Under the ESA, there is no take of federally listed plant species, and authorization under an ESA section 10 permit is not required. Section 9 of ESA does, however, prohibit certain actions related to plants including the removal of federally listed plants from areas under Federal jurisdiction and the removal or destruction of endangered plants in knowing violation of State law. In addition, section 7(a)(2) of the ESA prohibits Federal agencies from jeopardizing the continued existence of any listed plant or animal species, or destroying or adversely modifying the critical habitat of such species. The species that may be affected by the proposed actions include two plants federally listed as endangered, Eriastrum densiflorum subsp. sanctorum and Dodecahema leptoceras, the federally endangered San Bernardino kangaroo rat and federally threatened coastal California gnatcatcher, and the cactus wren (not currently listed under the ESA).

The species noted above will be evaluated for inclusion in the Upper Santa Ana River Wash Plan as proposed Covered Species. However, the list of Covered Species may change as the planning process progresses; species may be added or removed as more is learned about the nature of Covered Activities and their impact on native species within the Plan area.

Environmental Impact Statement

Before deciding whether to issue the requested Federal incidental take permit, the land exchange and the SCRMP, the Service and BLM will prepare a SDEIS, and a final EIS as part of the joint EIS/EIR, in order to analyze the environmental impacts associated with potential adoption and implementation of the proposed Upper Santa Ana River Wash Plan as a HCP, land exchange, and SCRMP amendment. In the EIS component of the joint EIS/EIR, the Service and BLM intend to consider the following alternatives:

(1) The proposed action, which includes the Service issuance of incidental take Permit consistent with the proposed Upper Santa Ana River Wash Plan HCP under section 10(a)(1)(B) of the ESA to the applicants, and BLM's approval of a land exchange and SCRMP amendment;

(2) No action (no Federal ESA permit issuance, no land exchange, and no SCRMP amendment); and

(3) A reasonable range of alternatives that address different scenarios of development and species conservation on both Federal and non-Federal land. The SDEIS will include a detailed analysis of the impacts of the proposed action and alternatives. The range of alternatives to be considered and analyzed will represent varying levels of conservation and impacts, and may include variations in the scope of Covered Activities; variations in the locations, amount, and type of conservation and land exchange; variations in permit duration; or a combination of these elements. The BLM may address other considerations in the SDEIS. In compliance with NEPA, the Service and BLM will be responsible for the scope and preparation of the EIS component of the joint EIS/EIR.

The SDEIS will identify and analyze potentially significant direct, indirect, and cumulative impacts of the Service's authorization of incidental take (permit issuance) and the implementation of the proposed Upper Santa Ana River Wash Plan on biological resources, land uses, utilities, air quality, water resources (including surface and groundwater supply and water quality), cultural resources, socioeconomics and environmental justice, outdoor recreation, visual resources, induced growth, climate change and greenhouse gases, and other environmental issues that could occur with implementation of the proposed action and alternatives. The Service and the BLM will use all practicable means, consistent with NEPA and other essential considerations of national policy, to avoid or minimize significant effects of their actions upon the quality of the human environment.

The CDFW has requested and agreed to be a State cooperating agency. The Service, BLM, and CDFW agree that establishing a cooperating agency relationship will create a more streamlined and coordinated approach in developing this joint EIS/EIR.

Reasonable Accommodation

The Service and BLM are committed to providing access to these scoping meetings for all participants. Please direct all requests for sign language interpreting services, closed captioning, or other accommodation needs to Kennon Corey at 760-322-2070 (telephone), ken_corey@fws.gov (email), or 800-877-8339 (TTY), as soon as possible. To allow sufficient time to process requests, please call no later than 1 week before the public meeting. Information regarding this proposed action is available in alternative formats upon request.

Public Comments

We invite other government agencies, Native American Tribes, the scientific community, industry, nongovernmental organizations, and all other interested parties to participate in this scoping process and provide comments and information. Comments on issues and potential impacts, or suggestions for additional or different alternatives, may be submitted in writing at any public scoping meeting or through one of the methods listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.) and by NEPA regulations (40 CFR 1501.7, 1506.6, and 1508.22).

Dated: February 23, 2015.
Alexandra Pitts,
Deputy Regional Director, Pacific Southwest Region, U.S. Fish and Wildlife Service, Sacramento, California.
Dated: February 23, 2015.
Tom Pogacnik,
Deputy State Director, Natural Resources, California State Office, Bureau of Land Management, Sacramento, California.

[FR Doc. 2015-04341 Filed 3-2-15; 8:45 am]

BILLING CODE 4310-55-P